DEPARTMENT OF ENERGY

Federal Energy Regulatory Commission

Combined Notice of Filings #1

Take notice that the Commission received the following electric rate filings:

Docket Numbers: ER12-1934-005.

Applicants: Wisconsin Power and Light Company.

Description: Supplement to June 30, 2014 Notice of Non-Material Change in Status of Wisconsin Power and Light Company.

Filed Date: 8/1/14.

Accession Number: 20140801-5219.

Comments Due: 5 p.m. ET 8/22/14.

Docket Numbers: ER13-105-003.

Applicants: NV Energy, Inc.

Description: Order No. 1000 OATT Compliance Filing to be effective 12/31/9998.

Filed Date: 8/1/14.

Accession Number: 20140801-5193.

Comments Due: 5 p.m. ET 8/14/14.

Docket Numbers: ER13-1139-007.

Applicants: Imperial Valley Solar 1, LLC.

Description: Notification of Non-Material Change in Status of Imperial Valley Solar 1, LLC.

Filed Date: 8/1/14.

Accession Number: 20140801-5220.

Comments Due: 5 p.m. ET 8/22/14.

Docket Numbers: ER13-1562-001.

Applicants: Catalina Solar Lessee, LLC.

Description: Catalina Solar Lessee Notice of Non-Material Status Change & Compliance Filing to be effective 8/5/2014.

Filed Date: 8/4/14.

Accession Number: 20140804-5122.

Comments Due: 5 p.m. ET 8/25/14.

Docket Numbers: ER14-2166-001.

Applicants: Alabama Power Company.

Description: Amendment to Attachment S (GPCO) Updated Depreciation Rates Filing 2014 to be effective 1/1/2014.

Filed Date: 8/4/14.

Accession Number: 20140804-5000.

Comments Due: 5 p.m. ET 8/25/14.

Docket Numbers: ER14-2575-000.

Applicants: Pacific Gas and Electric Company.

Description: Order No. 792 Compliance Filing—WDT GIP Amendment to be effective 10/1/2014.

Filed Date: 8/1/14.

Accession Number: 20140801-5182.

Comments Due: 5 p.m. ET 8/22/14.

Docket Numbers: ER14-2576-000.

Applicants: Public Service Company of Colorado.

Description: 2014-8-04_Order 792-Att P-Stnd SGIP 0.1.0-Filing to be effective 8/4/2014.

Filed Date: 8/4/14.

Accession Number: 20140804-5044.

Comments Due: 5 p.m. ET 8/25/14.

Docket Numbers: ER14-2577-000.

Applicants: El Paso Electric Company.

Description: OATT Order No. 792 Compliance Filing to be effective 10/3/2014.

Filed Date: 8/4/14.

Accession Number: 20140804-5052.

Comments Due: 5 p.m. ET 8/25/14.

Docket Numbers: ER14-2578-000.

Applicants: El Paso Electric Company.

Description: OATT Additional Changes to Order No. 792 Compliance Filing to be effective 10/3/2014.

Filed Date: 8/4/14.

Accession Number: 20140804-5072.

Comments Due: 5 p.m. ET 8/25/14.

Docket Numbers: ER14-2579-000.

Applicants: Nalcor Energy Marketing Corporation.

Description: MBR Application to be effective 10/3/2014.

Filed Date: 8/4/14.

Accession Number: 20140804-5080.

Comments Due: 5 p.m. ET 8/25/14.

Docket Numbers: ER14-2580-000.

Applicants: Midcontinent Independent System Operator, Inc.

Description: 2014-08-04_SA 2683 GRE-OTP Pelican North Tap T-L IA to be effective 8/5/2014.

Filed Date: 8/4/14.

Accession Number: 20140804-5084.

Comments Due: 5 p.m. ET 8/25/14.

Docket Numbers: ER14-2581-000.

Applicants: California Independent System Operator Corporation.

Description: 2014-08-04_Order792_Compliance to be effective 11/4/2014.

Filed Date: 8/4/14.

Accession Number: 20140804-5116.

Comments Due: 5 p.m. ET 8/25/14.

Docket Numbers: ER14-2582-000.

Applicants: Southern California Edison Company.

Description: SCE Compliance Filing Order No. 792 to be effective 10/1/2014.

Filed Date: 8/4/14.

Accession Number: 20140804-5121.

Comments Due: 5 p.m. ET 8/25/14.

Docket Numbers: ER14-2583-000.

Applicants: ISO New England Inc.

Description: Schedule 23 Revisions to Comply with Orders 792 and 792-A to be effective 12/31/9998.

Filed Date: 8/4/14.

Accession Number: 20140804-5140.

Comments Due: 5 p.m. ET 8/25/14.

Docket Numbers: ER14-2584-000.

Applicants: San Diego Gas & Electric Company.

Description: SDGE Amendment to SGIA and GIP to be effective 10/3/2014.

Filed Date: 8/4/14.

Accession Number: 20140804-5150.

Comments Due: 5 p.m. ET 8/25/14.

Docket Numbers: ER14-2585-000.

Applicants: ISO New England Inc.

Description: Schedule 23 Revisions to Increase Deposit/fee to be effective 12/31/9998.

Filed Date: 8/4/14.

Accession Number: 20140804-5152.

Comments Due: 5 p.m. ET 8/25/14.

Docket Numbers: ER14-2586-000.

Applicants: California Independent System Operator Corporation.

Description: 2014-08-04_InterconnectionProcessEnhancements(IPE)_Topics4-5 to be effective 11/4/2014.

Filed Date: 8/4/14.

Accession Number: 20140804-5154.

Comments Due: 5 p.m. ET 8/25/14.

Docket Numbers: ER14-2587-000.

Applicants: Black Hills Power, Inc.

Description: Order No. 792 Compliance Filing to be effective 8/5/2014.

Filed Date: 8/4/14.

Accession Number: 20140804-5159.

Comments Due: 5 p.m. ET 8/25/14.

Docket Numbers: ER14-2588-000.

Applicants: Black Hills/Colorado Electric Utility Company.

Description: Order No. 792 Compliance Filing to be effective 8/5/2014.

Filed Date: 8/4/14.

Accession Number: 20140804-5160.

Comments Due: 5 p.m. ET 8/25/14.

Docket Numbers: ER14-2589-000.

Applicants: Cheyenne Light, Fuel and Power Company.

Description: Order No. 792 Compliance Filing to be effective 8/5/2014.

Filed Date: 8/4/14.

Accession Number: 20140804-5161.

Comments Due: 5 p.m. ET 8/25/14.

Docket Numbers: ER14-2590-000.

Applicants: PJM Interconnection, L.L.C.

Description: Compliance Filing per Order No. 792 to be effective 11/1/2014.

Filed Date: 8/4/14.

Accession Number: 20140804-5164.

Comments Due: 5 p.m. ET 8/25/14.

Docket Numbers: ER14-2591-000.

Applicants: Florida Power & Light Company.

Description: Florida Power & Light Company submits tariff filing per 35: Florida Power & Light Company's Compliance Filing to Order No. 792 and 792-A to be effective 8/4/2014.

Filed Date: 8/4/14.

Accession Number: 20140804-5175.

Comments Due: 5 p.m. ET 8/25/14.

Docket Numbers: ER14-2592-000.

Applicants: Alcoa Power Generating Inc.

Description: Alcoa Power Generating Inc. submits tariff filing per 35: Order No. 792 Compliance Filing to be effective 8/5/2014.

Filed Date: 8/4/14.

Accession Number: 20140804-5188.

Comments Due: 5 p.m. ET 8/25/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 4, 2014.
Nathaniel J. Davis, Sr.,
Deputy Secretary.

[FR Doc. 2014-18933 Filed 8-8-14; 8:45 am]

BILLING CODE 6717-01-P